DEPARTMENT OF HEALTH AND HUMAN SERVICES

Administration for Children and Families

Proposed Information Collection Activity; Comment Request

Proposed Projects

Title: Evaluation of Child Care Subsidy Strategies.

OMB No.: New collection.

Description: To conduct four experiments to test aspects of the child care subsidy system. This OMB submission will refer to the experiments in the first two sites: Illinois and Florida.

The State of Illinois has agreed to conduct two simultaneous experiments. The first will test the impact of receiving a child care subsidy on parental employment and income, and on the stability of child care arrangements; the second experiment will examine the impacts of losing a subsidy on the same set of outcomes. For the first experiments, families with incomes above the current income eligibility ceiling who apply for subsidies will be approved to receive subsidies. In the second experiments, families in the treatment group with incomes above the eligibility ceiling who apply to be recertified to continue using subsidies will remain eligible. In addition, each experiment will test the effects of a longer certification period by certifying eligibility for some families for six months and other families for one year. Families in the two treatment groups will retain eligibility for subsidies over the two-year study period, provided their income remains below the experimental limit and they comply with other requirements (e.g., continue to work). Outcomes will be measured through administrative records and interviews with parents.

In Miami/Dade County Florida, the study is an experimental test of the effects of three early language and literacy curricula on the school-readiness of low-income and subsidized 4-year-old children in child care centers. Participating centers will be randomly assigned to one of three curricula or to a control group. All participating centers will receive a set of basic literacy materials for their classroom. Teachers in the curricula-centers will be trained on their given curricula. Outcomes will be measured through classroom observations and child assessments.

Respondents

Illinois: Parents who apply for subsidies and are eligible and agree to be in the study will be interviewed by telephone or in person up to three times in the 24 months after they enter the study.

Florida: Participating classrooms will be observed prior to the implementation of the curricula. Children will be assessed at the end of the school year.

Annual Burden Estimates:

Instrument | Number of respondents | Number of responses per respondent | Average burden hours per response | Total burden hours
Illinois parent survey | 5000 | 3 | .5 | 7500
Florida child assessments | Cohort 1: 1620 | 1 | .3 | 486
| Cohort 2: 1620 | 2 | .3 | 972

Estimated Total Annual Burden Hours: 8958.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 28, 2003.
Robert Sargis,
Reports Clearance Officer.

[FR Doc. 03-27612 Filed 11-3-03; 8:45 am]

BILLING CODE 4184-01-M